ENVIRONMENTAL PROTECTION AGENCY

[EPA-HQ-OPPT-2007-0572; FRL-8493-9]

Agency Information Collection Activities; Submission to OMB for Review and Approval; Comment Request; Information Collection in Support of EPA's Stewardship Program for Nanoscale Materials; EPA ICR No. 2250.01, OMB Control No. 2070-NEW

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before December 10, 2007.

ADDRESSES: Submit your comments, referencing docket ID Number EPA-HQ-OPPT-2007-0572 to (1) EPA online using http://www.regulations.gov (our preferred method), by e-mail to oppt.ncic@epa.gov, or by mail to: Document Control Office (DCO), Office of Pollution Prevention and Toxics (OPPT), Environmental Protection Agency, Mail Code: 7407T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Barbara Cunningham, Director, Environmental Assistance Division, Office of Pollution Prevention and Toxics, Environmental Protection Agency, Mailcode: 7408-M, 1200 Pennsylvania Ave., NW., Washington, DC 20460; telephone number: 202-554-1404; e-mail address: TSCA-Hotline@epa.gov.

SUPPLEMENTARY INFORMATION: EPA has submitted the following ICR to OMB for review and approval according to the procedures prescribed in 5 CFR 1320.12. On July 12, 2007 (72 FR 38079), EPA sought comments on the proposed new ICR pursuant to 5 CFR 1320.8(d). EPA received four comments during the comment period, which are addressed in the ICR. Any additional comments related to this ICR should be submitted to EPA and OMB within 30 days of this notice.

EPA has established a public docket for this ICR under Docket ID No. EPA-HQ-OPPT-2007-0572, which is available for online viewing at http://www.regulations.gov, or in person inspection at the OPPT Docket in the EPA Docket Center (EPA/DC), EPA West, Room 3334, 1301 Constitution Ave., NW., Washington, DC. The EPA Docket Center Public Reading Room is open from 8 a.m. to 4:30 p.m., Monday through Friday, excluding legal holidays. The telephone number for the Reading Room is 202-566-1744, and the telephone number for the Pollution Prevention and Toxics Docket is 202-566-0280.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to http://www.regulations.gov.

Title: Information Collection in Support of EPA's Stewardship Program for Nanoscale Materials.

ICR numbers: EPA ICR No. 2250.01, OMB Control No. 2070-NEW.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA will initiate a voluntary information collection to assemble all known or reasonably ascertainable information from manufacturers, importers, and processors of nanoscale materials who are participating in the voluntary Stewardship Program for Nanoscale Materials. EPA will also collaborate with participating manufacturers, importers, and processors of nanoscale materials, and other stakeholders in an effort to generate more detailed information of certain specific nanoscale materials. Under this second effort OPPT and program participants will work together to generate data and analyses that will more fully characterize certain nanoscale materials and to increase understanding of the environmental health and safety implications of manufactured nanoscale materials.

Responses to this collection of information are voluntary. This data collection will facilitate and support EPA's voluntary Stewardship Program for Nanoscale Materials and complement EPA's new and existing chemical programs under TSCA. These data will also help provide a firmer scientific foundation for regulatory decisions by encouraging the development of key scientific information and appropriate risk management practices for nanoscale chemical substances.

Burden Statement: The annual public burden for this collection of information is estimated to average about 154 hours per response for the Basic NMSP, and 2,500 hours for the In-Depth NMSP, based on 240 responses for the Basic NMSP and 15 responses for the In-Depth NMSP over the three year approval period. Burden means the total time, effort or financial resources expended by persons to generate, maintain, retain or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

Respondents/Affected Entities: Manufacturers, importers, and processors of nanoscale materials who are participating in the voluntary Stewardship Program for Nanoscale Materials.

Estimated No. of Respondents: 615.

Frequency of Collection: On occasion.

Estimated Total Annual Hour Burden: 24,844 hours.

Estimated Total Annual Labor Costs: $1,315,240.

Changes in Burden Estimates: This is a new information collection request. The burden associated with responses to this new information collection reflects an increase of 24,844 hours in the total estimated respondent burden from that currently in the OMB inventory. This increase represents a program change.

Dated: November 2, 2007.
Joseph A. Sierra,
Acting Director, Collection Strategies Division.

[FR Doc. E7-21935 Filed 11-7-07; 8:45 am]

BILLING CODE 6560-50-P